DEPARTMENT OF EDUCATION

[CFDA No.: 84.302A]

Office of Educational Research and Improvement; Regional Technology in Education Consortia Program Notice inviting applications for new awards for fiscal year (FY) 2000.

Purpose of the Program: The Regional Technology in Education Consortia Program provides professional and leadership development, technical assistance, information and resources to States, districts, schools and other education institutions to help in their efforts to integrate advanced technologies into K-12 teaching and learning and programs of adult literacy. This competition supports 10 regional consortia projects that will provide these services in the following multi-state regions.

Northwest RTEC Region: Alaska, Idaho, Montana, Oregon, and Washington.

Pacific RTEC Region: Hawaii, American Samoa, Commonwealth of Northern Mariana Islands, Federated States of Micronesia, Guam, the Republic of Palau, and the Republic of Marshall Islands.

Southwest RTEC Region: Arizona, California, Nevada, and Utah.

High Plains RTEC Region:½ Colorado, Kansas, Missouri, Nebraska, North Dakota, South Dakota, and Wyoming.

North Central RTEC Region: Illinois, Indiana, Iowa, Michigan, Minnesota, Ohio, and Wisconsin.

South Central RETC Region: Arkansas, Louisiana, New Mexico, Oklahoma, and Texas.

Northeast and Islands RTEC Region: Connecticut, Maine, Massachusetts, New Hampshire, New York, Rhode Island, Vermont, Puerto Rico, and the Virgin Islands.

Mid-Atlantic RTEC Region: Delaware, Maryland, New Jersey, Pennsylvania, Washington, DC.

Appalachian RTEC Region: Kentucky, Tennessee, Virginia, and West Virginia.

Southeast RTEC Region: Alabama, Florida, Georgia, Mississippi, North Carolina, and South Carolina.

Eligible Applicants: Eligible applicants are regional entities or consortia composed of State educational agencies, institutions of higher education, nonprofit organizations or a combination thereof.

Applications Available: February 29, 2000.

Deadline for Transmitting Applications: April 14, 2000.

Deadline for Intergovernmental Review: June 14, 2000.

Estimated Available Funds: $9,900,000.

Estimated Maximum Award: $990,000.

Eestimated Average Size of Awards: $990,000 for the first budget year and $995,000 for each of years 2-5.

Maximum Award: We will reject any application that proposes funding in excess of the amount available in a given year.

Estimated Number of Awards: 10.

Budget Period: 12 Months.

Project Period: 60 Months.

Note: The Department is not bound by any estimates in this notice.

Page Limit: The application narrative is where you, the applicant, address the selection criteria reviewers use to evaluate your application. You must limit the application narrative to the equivalent of no more than 50 pages of 2,000 characters per page for the page limit specified, using the following standards:

• A page is 8.5″ x 11″, on one side only, with 1″ margins at the top, bottom, and both sides. For electronic submission a page equals 2,000 characters; and we will convert any charts, tables, figures, and graphs from a page equivalency to a character count.

• Double space (no more than three lines per vertical inch) all text in the application narrative, including titles, headings, footnotes, quotations, references, and captions, as well as all text in charts, tables, figures, and graphs.

• Use a font that is either 12-point or larger or no smaller than 10 pitch (characters per inch).

The page and character limits in the application narrative include no more than a 10-page evaluation plan.

The page and character count limits do not apply to the cover sheet; the budget section, including the narrative budget justification; the assurances and certifications; or the one-page abstract, the resumes, the bibliography, or the letters of support. However, you must include all of the application narrative in Part III.

If, to meet the page limit, you use more than one side of the page, you use a larger page, or you use a print size, spacing, or margins smaller than the standards in this notice, we will reject your application.

Applicable Regulations: The Education Department General Administrative Regulations (EDGAR) in 34 CFR parts 74, 75, 77, 79, 80, 81, 82, 85, 86, 97, 98 and 99.

For Applications Contact: Carmelita Stevenson, U.S. Department of Education, 555 New Jersey Avenue, NW, room 522, Washington, DC 20208-5645. Telephone: (202) 208-5410. Email: carmelita_stevenson@ed.gov. If you use a telecommunications device for the deaf (TDD), you may call the Federal Information Relay Service (FIRS) at 1-800-877-8339.

FOR FURTHER INFORMATION CONTACT: Enid Simmons, U.S. Department of Education, 555 New Jersey Avenue, NW, room 502g, Washington, DC 20208-5645. Telephone: (202) 219-1739. Email: enid_simmons@ed.gov. If you use a telecommunications device for the deaf (TDD), you may call the Federal Information Relay Service (FIRS) at 1-800-877-8339.

Individuals with disabilities may obtain a copy of the application package in an alternative format (e.g., Braille, large print, audiotape, or computer diskette) on request to the program contact person listed under FOR FURTHER INFORMATION CONTACT. Individuals with disabilities may obtain a copy of the application package in an alternative format by contacting that person. However, the Department is not able to reproduce in an alternative format the standard forms included in the application package.

Application Procedures

Note: Some of the procedures in this notice for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

The U.S. Department of Education (we) are conducting a limited pilot project of electronic submission of discretionary grant applications for selected programs. The Regional Technology in Education Consortia (RTEC Grants Program) (CFDA No. 84.302A) is one of the programs included in the pilot project. If you are an applicant under the RTEC Grant program, you may submit your application to us in either electronic or paper format.

The pilot project involves the use of the Electronic Grant Application System (e-GAPS) portion of the Grant Administration and Payment System (GAPS). We request your participation in the e-GAPS pilot project. By participating you will have an opportunity to have input into the overall design and approach of e-GAPS. At the conclusion of the pilot project, we will evaluate its success and solicit suggestions for improvements.

If you participate as a grant applicant in an e-GAPS pilot, please note the following:

• Your participation is voluntary.

• You will not receive any additional point value or penalty because you submit a grant application in electronic or paper format.

• You can submit all documents electronically, including the Application for Federal Education Assistance (ED 424), Budget Information-Non-Construction Programs (ED Form No. 524), and all necessary assurances and certifications. We may request that you give us original signatures on forms at a later date.

You may access the electronic grant application for Office of Educational Research and Improvement: Regional Technology in Education Consortia at: http://e-grants.ed.gov

Electronic Access to This Document

You may view this document, as well as other Department of Education documents published in the Federal Register, in the text or Adobe Portable Document Format (PDF) on the Internet at either of the following sites:

http://ocfo.ed.goc/fedreg.html

http://www.ed.gov/news.html

To use the PDF you must have the Adobe Acrobat Reader Program with Search, which is available free at either of the previous sites. If you have questions about using the PDF, call the U.S. Government Printing Office (GP0), toll free, at 1-888-293-6498; or in the Washington, DC area at (202) 512-1530.

Note: The official version of this document is the version published in the Federal Register. Free Internet access to the official edition of the Federal Register and the Code of Federal Regulations is available on GPO Access at: http://www.access.gpo.gov/nara/index.html

Program Authority: 20 U.S.C. 8671-8678.

Dated: February 23, 2000.
C. Kent McGuire,
Assistant Secretary, Office of Educational Research and Improvement.

[FR Doc. 00-4769 Filed 2-28-00; 8:45 am]

BILLING CODE 4000-01-P